DEPARTMENT OF LABOR

Mine Safety and Health Administration

Proposed Information Collection Request Submitted for Public Comment and Recommendations; Record of Individual Exposure to Radon Daughters

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

DATES: Submit comments on or before October 22, 2007.

ADDRESSES: Send comments to, Debbie Ferraro, Management Services Division, 1100 Wilson Boulevard, Room 2171, Arlington, VA 22209-3939. Commenters are encouraged to send their comments on computer disk, or via E-mail to Ferraro.Debbie@DOL.GOV. Ms. Ferraro can be reached at (202) 693-9821 (voice), or (202) 693-9801 (facsimile).

FOR FURTHER INFORMATION CONTACT: Contact the employee listed in the ADDRESSES section of this notice.

SUPPLEMENTARY INFORMATION:

I. Background

MSHA's primary goal is the protection of America's most precious mining resource, the miner. To achieve this goal, this agency has to keep information regarding the hazards faced and the progress made within the industry to develop and maintain a safe and healthy work environment. Records concerning the health and welfare of miners are especially important, given that the nature of the exposure could result in medical complications later in the miner's life. To this end, the record keeping of Radon Daughters is essential information. Each year the industry records and reports the exposure levels that its workforce has faced during the past 12 months. This information is archived and stored for retrieval by the exposed party, or legal representative, should a medical release be deemed necessary. This reporting of the exposure numbers also serves to inform MSHA of the industry expansion or decrease as well as health threats incurred.

Concurrently, the United States economy is calling for production rates that are lower than those in recent years. Regardless of the number of miners exposed, MSHA needs to keep the recording requirements for Radon Daughters to ensure that the records regarding the miners' level of exposure today is available to them tomorrow and throughout their lifetimes.

II. Desired Focus

Currently, the Mine Safety and Health Administration (MSHA) is soliciting comments concerning the proposed extension of the information collection related to the Record of Individual Exposure to Radon Daughters. MSHA is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request may be viewed on the internet by accessing the MSHA home page (http://www.msha.gov/) and choosing “Rules and Regs”, then choosing “Fed Reg Docs.”

III. Current Actions

Currently, the Mine Safety and Health Administration (MSHA) is soliciting comments concerning the proposed extension of the information collection related to provide miners protection from radon daughter exposure.

Type of Review: Extension.

Agency: Mine Safety and Health Administration.

Title: Record of Individual Exposure to Radon Daughters.

OMB Number: 1219-0003.

Agency Form Number: MSHA 4000-9.

Frequency: Weekly.

Affected Public: Business or other for-profit.

Total Burden Respondents: 2.

Total Number of Responses: 100.

Total Burden Hours: 300.

Total Burden Cost (operating/maintaining): $0.

Comments submitted in response to this notice will be summarized and/or included in the request for Office of Management and Budget approval of the information collection request; they will also become a matter of public record.

Dated at Arlington, Virginia, this 16th day of August, 2007.
David L. Meyer,
Director, Office of Administration and Management.

[FR Doc. E7-16453 Filed 8-21-07; 8:45 am]

BILLING CODE 4510-43-P